DEPARTMENT OF ENERGY

Federal Energy Regulatory Commission

Combined Notice of Filings #1

Take notice that the Commission received the following exempt wholesale generator filings:

Docket Numbers: EG25-288-000.

Applicants: Clinton Solar LLC.

Description: Clinton Solar LLC submits Notice of Self-Certification of Exempt Wholesale Generator Status.

Filed Date: 4/16/25.

Accession Number: 20250416-5121.

Comment Date: 5 p.m. ET 5/7/25.

Docket Numbers: EG25-289-000.

Applicants: BDPU Solar Tormes LLC.

Description: BDPU Solar Tormes LLC submits Notice of Self-Certification of Exempt Wholesale Generator Status.

Filed Date: 4/16/25.

Accession Number: 20250416-5160.

Comment Date: 5 p.m. ET 5/7/25.

Docket Numbers: EG25-290-000.

Applicants: Stillhouse Solar LLC.

Description: Stillhouse Solar LLC submits Notice of Self-Certification of Exempt Wholesale Generator Status.

Filed Date: 4/16/25.

Accession Number: 20250416-5162.

Comment Date: 5 p.m. ET 5/7/25.

Take notice that the Commission received the following electric rate filings:

Docket Numbers: ER24-113-001; ER24-114-001.

Applicants: BCD 2024 Fund 1 Lessee, LLC, Salt Creek Township Solar, LLC.

Description: Notice of Non-Material Change in Status of Salt Creek Township Solar, LLC, et al.

Filed Date: 4/15/25.

Accession Number: 20250415-5293.

Comment Date: 5 p.m. ET 5/6/25.

Docket Numbers: ER24-2184-002.

Applicants: Southwest Power Pool, Inc.

Description: Compliance filing: Comp Filing—Sub. of Tariff to Expand RTO into the Western Interconnection to be effective 12/31/9998.

Filed Date: 4/16/25.

Accession Number: 20250416-5089.

Comment Date: 5 p.m. ET 5/7/25.

Docket Numbers: ER25-1103-002.

Applicants: Indianapolis Power & Light Company.

Description: Tariff Amendment: 2025-04-16_2nd Amendment IPL dba AES Transition to Forward Looking Formula Rate to be effective 4/1/2025.

Filed Date: 4/16/25.

Accession Number: 20250416-5161.

Comment Date: 5 p.m. ET 5/7/25.

Docket Numbers: ER25-1355-001.

Applicants: PJM Interconnection, L.L.C.

Description: Tariff Amendment: Amendment of CSA SA No. 7532; Project Identifier No. AG1-239 to be effective 1/23/2025.

Filed Date: 4/16/25.

Accession Number: 20250416-5132.

Comment Date: 5 p.m. ET 5/7/25.

Docket Numbers: ER25-1543-001.

Applicants: PJM Interconnection, L.L.C.

Description: Tariff Amendment: Amended Filing of Original GIA, SA No. 7593; Project Identifier No. AF2-298 to be effective 4/4/2025.

Filed Date: 4/16/25.

Accession Number: 20250416-5138.

Comment Date: 5 p.m. ET 5/7/25.

Docket Numbers: ER25-1825-000.

Applicants: Entergy Arkansas, LLC, Entergy Louisiana, LLC, Entergy Mississippi, LLC, Entergy New Orleans, LLC, Entergy Texas, Inc.

Description: Formal Challenge of the Council of the City of New Orleans' MSS-4 Replacement Tariff Annual Update for the 2023 Test Year by Entergy Arkansas, LLC, et al.

Filed Date: 4/15/25.

Accession Number: 20250415-5079.

Comment Date: 5 p.m. ET 5/6/25.

Docket Numbers: ER25-1969-000.

Applicants: Midcontinent Independent System Operator, Inc.

Description: § 205(d) Rate Filing: 2025-04-16_SA 3873 ITC Midwest-Elk Creek 1st Rev GIA (J1164) to be effective 4/8/2025.

Filed Date: 4/16/25.

Accession Number: 20250416-5050.

Comment Date: 5 p.m. ET 5/7/25.

Docket Numbers: ER25-1970-000.

Applicants: Midcontinent Independent System Operator, Inc.

Description: § 205(d) Rate Filing: 2025-04-16_SA 2650 Termination of METC-New Covert E&P (T94) to be effective 4/17/2025.

Filed Date: 4/16/25.

Accession Number: 20250416-5052.

Comment Date: 5 p.m. ET 5/7/25.

Docket Numbers: ER25-1972-000.

Applicants: PacifiCorp.

Description: § 205(d) Rate Filing: Surplus Large Gen Interconnection Agrmt_Rev 1 (SA No. 1106) to be effective 4/17/2025.

Filed Date: 4/16/25.

Accession Number: 20250416-5065.

Comment Date: 5 p.m. ET 5/7/25.

Docket Numbers: ER25-1973-000.

Applicants: PacifiCorp.

Description: § 205(d) Rate Filing: Surplus Large Gen Interconnection Agrmt_Rev 1 (SA No. 1109) to be effective 4/17/2025.

Filed Date: 4/16/25.

Accession Number: 20250416-5068.

Comment Date: 5 p.m. ET 5/7/25.

Docket Numbers: ER25-1974-000.

Applicants: Alabama Power Company, Georgia Power Company, Mississippi Power Company.

Description: Tariff Amendment: Alabama Power Company submits tariff filing per 35.15: Dothan Solar (Dothan Solar & Storage) LGIA Termination Filing to be effective 4/16/2025.

Filed Date: 4/16/25.

Accession Number: 20250416-5071.

Comment Date: 5 p.m. ET 5/7/25.

Docket Numbers: ER25-1975-000.

Applicants: ConocoPhillips Company.

Description: § 205(d) Rate Filing: Change in Category Status to be effective 6/1/2025.

Filed Date: 4/16/25.

Accession Number: 20250416-5123.

Comment Date: 5 p.m. ET 5/7/25.

Docket Numbers: ER25-1976-000.

Applicants: Badger Wind, LLC.

Description: Initial Rate Filing: Application for MBR Authorization with Waivers—Badger Wind, LLC to be effective 6/14/2025.

Filed Date: 4/16/25.

Accession Number: 20250416-5169.

Comment Date: 5 p.m. ET 5/7/25.

Take notice that the Commission received the following qualifying facility filings:

Docket Numbers: QF25-691-000.

Applicants: BE Development, Inc.

Description: Form 556 of BE Development, Inc. [meter 2].

Filed Date: 4/16/25.

Accession Number: 20250416-5100.

Comment Date: 5 p.m. ET 5/7/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 16, 2025.
Carlos D. Clay,
Deputy Secretary.

[FR Doc. 2025-06866 Filed 4-21-25; 8:45 am]

BILLING CODE 6717-01-P